DEPARTMENT OF THE TREASURY

Internal Revenue Service

26 CFR Part 49

[REG-141097-02]

RIN 1545-BB18

Excise Taxes; Communications Services, Distance Sensitivity; Hearing

AGENCY: Internal Revenue Service (IRS), Treasury.

ACTION: Notice of public hearing on proposed rulemaking.

SUMMARY: This document contains a notice of public hearing on proposed regulations relating to the definition of toll telephone service for purposes of the communications excise tax.

DATES: The public hearing is being held on September 10, 2003, at 10 a.m. The IRS must receive outlines of the topics to be discussed at the hearing by July 15, 2003.

ADDRESSES: The public hearing is being held in room 4718, Internal Revenue Building, 1111 Constitution Avenue, NW., Washington, DC. Send submissions to: CC:PA:RU (REG-141097-02), room 5226, Internal Revenue Service, POB 7604, Ben Franklin Station, Washington, DC 20044. Submissions may be hand delivered between the hours of 8 a.m. and 4 p.m. to CC:PA:RU (REG-141097-02), Couriers Desk, Internal Revenue Service, 1111 Constitution Avenue NW., Washington, DC. Alternatively, taxpayers may submit electronic outlines of oral comments directly to the IRS Internet site at http://www.irs.gov/regs.

FOR FURTHER INFORMATION CONTACT: Concerning the regulations, Cynthia McGreevy (202) 622-3130; concerning submissions, LaNita Van Dyke (202) 622-7180 (not toll free numbers).

SUPPLEMENTARY INFORMATION: The subject of the public hearing is the notice of proposed regulations (REG-141097-02) that was published in the Federal Register on Tuesday, April 1, 2003 (68 FR 15690).

The rules of 26 CFR 601.601(a)(3) apply to the hearing.

Persons who wish to present oral comments at the hearing that submitted written comments by June 30, 2003, must submit an outline of the topics to be discussed and the amount of time to be devoted to each topic (signed original and eight (8) copies).

A period of 10 minutes is allotted to each person for presenting oral comments.

After the deadline for receiving outlines has passed, the IRS will prepare an agenda containing the schedule of speakers. Copies of the agenda will be made available, free of charge, at the hearing.

Because of access restrictions, the IRS will not admit visitors beyond the immediate entrance area more than 30 minutes before the hearing starts. For information about having your name placed on the building access list to attend the hearing, see the FOR FURTHER INFORMATION CONTACT section of this document.

Cynthia E. Grigsby,
Chief, Regulations Unit, Associate Chief Counsel, (Procedure and Administration).

[FR Doc. 03-15283 Filed 6-16-03; 8:45 am]

BILLING CODE 4830-01-P